DEPARTMENT OF COMMERCE

National Oceanic and Atmospheric Administration

RIN 0648-XF640

Fisheries of the Exclusive Economic Zone Off Alaska; Alaska Groundfish and Halibut Seabird Working Group; Public Meeting

AGENCY: National Marine Fisheries Service (NMFS), National Oceanic and Atmospheric Administration (NOAA), Commerce.

ACTION: Notice of public meeting.

SUMMARY: NMFS Alaska Groundfish and Halibut Seabird Working Group will meet to discuss emerging seabird mitigation technologies and additional seabird species that could warrant more attention as bycatch in fisheries off Alaska.

DATES: The meeting will be held on September 21, 2017, from 1 p.m. to 5 p.m., and on September 22, 2017, from 8 a.m. to 11:30 a.m., Alaska Daylight Time.

ADDRESSES: The meeting will be held at the NMFS Alaska Regional Office located at 709 W. 9th St., Room 445C, Juneau, AK. Photo identification is required to enter this facility.

FOR FURTHER INFORMATION CONTACT: Anne Marie Eich, 907-586-7172.

SUPPLEMENTARY INFORMATION: The Alaska Groundfish and Halibut Seabird Working Group formed as a result of the 2015 biological opinion on effects of the Gulf of Alaska and Bering Sea/Aleutian Islands groundfish fisheries on short-tailed albatross. The working group is tasked with reviewing information for mitigating effects of the groundfish fisheries on short-tailed albatross and other seabirds. The working group will hold its first in-person meeting in Juneau, AK, on September 21 and 22, 2017. Meeting topics include emerging seabird mitigation technologies and additional seabird species that could warrant more attention as bycatch in fisheries off Alaska. NMFS will keep the North Pacific Fishery Management Council (Council) apprised of the working group's activities and any resulting recommendations for methods to reduce seabird bycatch. Any changes to seabird avoidance regulations are expected to follow the standard Council process.

Special Accommodations

This workshop will be physically accessible to people with disabilities. Requests for sign language interpretation or other auxiliary aids should be directed to Anne Marie Eich, 907-586-7172, at least 5 working days prior to the meeting date.

Dated: September 1, 2017.
Alan D. Risenhoover,
Director, Office of Sustainable Fisheries, National Marine Fisheries Service.

[FR Doc. 2017-18960 Filed 9-6-17; 8:45 am]

BILLING CODE 3510-22-P